DEPARTMENT OF COMMERCE

International Trade Administration

A-552-801

Certain Frozen Fish Fillets from the Socialist Republic of Vietnam: Extension of Time Limit for Final Results of the New Shipper Reviews

AGENCY: Import Administration, International Trade Administration, Department of Commerce

EFFECTIVE DATE: March 24, 2008.

FOR FURTHER INFORMATION CONTACT: Julia Hancock, AD/CVD Operations, Office 9, Import Administration, International Trade Administration, U.S. Department of Commerce, 14th Street and Constitution Avenue, N.W., Washington, D.C. 20230; telephone: (202) 482-1394.

SUPPLEMENTARY INFORMATION:

Background

On February 1, 2008, the Department of Commerce (“Department”) issued the preliminary results of these new shipper reviews. See Certain Frozen Fish Fillets from the Socialist Republic of Vietnam: Partial Rescission and Preliminary Results of the First New Shipper Review, 73 FR 6125 (February 1, 2008) (“Preliminary Results”). The final results are currently due on April 21, 2008.

Extension of Time Limits for Final Results

Section 751(a)(2)(B)(iv) of the Tariff Act of 1930, as amended (the “Act”), and 19 CFR 351.214(i)(1) require the Department to issue the preliminary results of a new shipper review within 180 days after the date on which the new shipper review was initiated and final results of a review within 90 days after the date on which the preliminary results were issued. The Department may, however, extend the deadline for completion of the final results of a new shipper review to 150 days if it determines that the case is extraordinarily complicated. See section 751(a)(2)(B)(iv) of the Act, and 19 CFR 351.214(i)(2).

The Department is extending the deadline for the completion of the final results of these new shipper reviews of the antidumping duty order on certain frozen fish fillets from Vietnam because the case is extraordinarily complicated. Specifically, these new shipper reviews involve complicated affiliation and data issue issues, which require further analysis. Such analysis is necessary in order for the Department to obtain accurate sales and factors of production. Additionally, the Department is extending the deadline for the final results to accommodate parties' request to extend the deadline for the submission of publicly available information to value factors of production, case briefs, and rebuttal briefs. For the reasons noted above, we are extending the time for the completion of the final results of these new shipper reviews by 30 days to May 21, 2008.

We are issuing and publishing this notice in accordance with sections 751(a)(2)(B) and 777(i)(1) of the Act.

Dated: March 4, 2008.
Stephen J. Claeys,
Deputy Assistant Secretary for Import Administration.

[FR Doc. E8-5887 Filed 3-21-08; 8:45 am]

BILLING CODE 3510-DS-S